DEPARTMENT OF COMMERCE

Foreign-Trade Zones Board

[Docket 47-2003]

Foreign-Trade Zone 37—Orange County, New York; Request for Manufacturing Authority, Minolta Advance Technology, Inc. (Toner Products)

An application has been submitted to the Foreign-Trade Zones Board (the Board) by Orange County, New York, grantee of FTZ 37, on behalf of Minolta Advance Technology, Inc. (Minolta), requesting authority to manufacture bulk toner and toner cartridges under FTZ procedures within FTZ 37—Site 7. The application was formally filed on September 23, 2003.

The Minolta facility is located at (1 bldg., 88,039 sq. ft. (with a possible 125,000 sq. ft. to be added in the future) on 19.2 acres). The plant (40 employees) produces bulk toner (HTSUS 3707, 6.5%), toner cartridges for computer printers (HTSUS 8473, duty-free) and photocopiers (HTSUS 9009, duty-free to 3.7%), and remanufactures toner cartridges (HTSUS 8473 and HTSUS 9009, duty-free to 3.7%).

Foreign-sourced materials will account for some 40-80 percent of finished product value, and may include items from the following general categories: inorganic acids; artificial corundum; aluminum oxide; iron oxides; silicates; organo-sulfur compounds; heterocyclic compounds; other organic compounds; artificial and prepared waxes; chemical preparations for photographic uses, propylene/styrene/acrylic polymers; polyacetals; self-adhesive sheets/plates of plastics; other sheets/plates of plastics; plastic lids/stoppers; articles of vulcanized rubber, belts; paper and paperboard; cartons; paper; printed booklets and leaflets; seals and tapes for cartridges; aluminum foils; records, tapes and other recorded media; parts and accessories (other than carrying cases) for use with machines under HTSUS 8469 to 8472; parts sutiable for use with apparatus of HTSUS 8525 or 8528; electrical apparatus for switching or protecting electrical circuits.

Zone procedures would exempt Minolta from Customs duty payments on foreign materials used in production for export. Some 12 percent of the plant's shipments are currently exported and are projected to increase to some 30 percent in the future. On domestic sales, the company would be able to choose the duty rates that apply to the finished products (primarily duty-free, and some up to 6.5%), rather than the duty rates that would otherwise apply to the foreign-sourced materials noted above (duty-free to 8 percent, weighted average 6.5%). At the outset, the company is requesting to manufacture toner cartridges for multi-function printers (HTSUS 8473.40.8000, duty-free) from bulk toner (HTSUS 3707.90.3290, 6.5%) sourced abroad. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is December 2, 2003. Rebuttal comments in response to material submitted during the foregoing period may be submitted during the subsequent 15-day period (to December 17, 2003).

A copy of the application and accompanying exhibits will be available for public inspection at the Office of the Foreign-Trade Zones Board's Executive Secretary at address Number 1 listed above, and at the U.S. Department of Commerce Export Assistance Center, 707 Westchester Avenue, Suite 209, White Plains, New York 10604.

Dated: September 23, 2003.
Dennis Puccinelli,
Executive Secretary.

[FR Doc. 03-25163 Filed 10-2-03; 8:45 am]

BILLING CODE 3510-DS-P